DEPARTMENT OF DEFENSE

Department of the Navy

Notice of Availability of Government-Owned Inventions; Available for Licensing

AGENCY: Department of the Navy, DOD.

ACTION: Notice.

SUMMARY: The inventions listed below are assigned to the U.S. Government as represented by the Secretary of the Navy and are available for licensing by the Department of the Navy.

U.S. Patent No. 6,338,457: Precision Parachute Recovery System

U.S. Patent No. 6,416,019: Precision Parachute Recovery System

U.S. Patent No. 5,321,503: Closed Loop Depolarized IFOG With Self-Adjusting Serrodyne Phase Nulling

U.S. Patent No. 5,365,338: Wavelength Sensor for Fiber Optic Gyroscope

U.S. Patent No. 6,507,660: Method for Enhancing Air-to-Ground Target Detection, Acquisition, and Terminal Guidance and an Image Correlation System

U.S. Patent No. 6,259,803: Simplified Image Correlation Method Using Off-the-Shelf Signal Processors to Extract Edge Information Using Only Spatial Data

U.S. Patent No. 6,988,049: Apparatus and Method for Providing True Geodetic Coordinates

DATES: Applications for an exclusive or partially exclusive license may be submitted at any time from the date of this notice.

ADDRESSES: Requests for copies of the patents cited should be directed to: Naval Air Warfare Center Weapons Division, Code 498400D, 1900 N. Knox Road Stop 6312, China Lake, CA 93555-6106, and must include the patent number.

FOR FURTHER INFORMATION CONTACT: Michael D. Seltzer, Ph.D., Head, Technology Transfer Office, Naval Air Warfare Center Weapons Division, Code 498400D, 1900 N. Knox Road Stop 6312, China Lake, CA 93555-6106, telephone 760-939-1074 or e-mail michael.seltzer@navy.mil

(Authority: 35 U.S.C. 207, 37 CFR Part 404.)

Dated: May 11, 2006.
Saundra K. Melancon,
Paralegal Specialist, Alternate Federal Register Liaison Officer.

[FR Doc. E6-7564 Filed 5-17-06; 8:45 am]

BILLING CODE 3810-FF-P